ENVIRONMENTAL PROTECTION AGENCY

[OAR-2004-0237; FRL-7948-3]

Animal Feeding Operations Consent Agreement and Final Order

AGENCY: Environmental Protection Agency (EPA).

ACTION: Supplemental notice; reopen signup period for consent agreement and final order.

SUMMARY: On January 31, 2005 (70 FR 4958), EPA announced an opportunity for animal feeding operations (AFOs) to sign a voluntary consent agreement and final order (air compliance agreement). This supplemental notice announces a reopening to the signup period for the consent agreement and final order.

DATES: The signup period is reopened until August 12, 2005.

ADDRESSES: Comments are posted on Docket ID No. OAR-2004-0237 at the Agency Web site: http://www.epa.gov/edocket.

Docket: All documents in the docket are listed in the EDOCKET index at http://www.epa.gov/edocket. Although listed in the index, some information is not publicly available, i.e., CBI or other information whose disclosure is restricted by statute. Certain other information, such as copyrighted material, is not placed on the Internet and will be publicly available only in hard copy form. Publicly available docket materials are available either electronically in EDOCKET or in hard copy form at the public reading room (Docket ID No. OAR-2004-0237), EPA/DC, EPA West Building, Room B102, 1301 Constitution Ave., NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: For information on the air compliance agreement, contact Mr. Bruce Fergusson, Special Litigation and Projects Division, Office of Enforcement and Compliance Assurance, U.S. EPA, Ariel Rios Building, Washington, DC 20460, telephone number (202) 564-1261, fax number (202) 564-0010, and electronic mail: fergusson.bruce@epa.gov.

For information on the monitoring study, contact Ms. Sharon Nizich, Organic Chemicals Group, Emission Standards Division, Office of Air Quality Planning and Standards, U.S. EPA, Research Triangle Park NC, 27711, telephone number (919) 541-2825, fax number (919) 541-3470, and electronic mail: nizich.sharon@epa.gov.

SUPPLEMENTARY INFORMATION: In order to provide more time for operators of animal feeding facilities to make informed decisions about participation, EPA is reopening the signup period until August 12, 2005, for the Animal Feeding Operation Air Compliance Agreement. The Agreement addresses emissions from certain animal feeding operations, also known as AFOs. EPA will continue to reach out to the agricultural community during this time.

Dated: July 28, 2005.
Steve Fruh,
Acting Director, Emission Standards Division, Office of Air Quality Planning and Standards.

[FR Doc. 05-15431 Filed 8-2-05; 8:45 am]

BILLING CODE 6560-50-P